DEPARTMENT OF VETERANS AFFAIRS

[OMB Control No. 2900-0749]

Agency Information Collection Activity: (Ischemic Heart Disease (IHD) Disability Benefits Questionnaire (VA Form 21-0960A-1), Hairy Cell and Other B-Cell Leukemias Disability Benefits Questionnaire (VA Form 21-0960B-1), and Parkinson's Disease Disability Benefits Questionnaire (VA Form 21-0960C-1)). Activity Under OMB Review

AGENCY: Veterans Benefits Administration, Department of Veterans Affairs.

ACTION: Notice.

SUMMARY: In compliance with the Paperwork Reduction Act (PRA) of 1995 (44 U.S.C. 3501-21), this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before February 27, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0749” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0749” in any correspondence.

SUPPLEMENTARY INFORMATION:

Title: (Ischemic Heart Disease (IHD) Disability Benefits Questionnaire (VA Form 21-0960A-1), Hairy Cell and Other B-Cell Leukemias Disability Benefits Questionnaire (VA Form 21-0960B-1), and Parkinson's Disease Disability Benefits Questionnaire (VA Form 21-0960C-1)).

OMB Control Number: 2900-0749.

Type of Review: Extension of a currently approved collection.

Abstract:

VA Forms 21-0960A-1, 21-0960B-1, and 21-0960C-1 are used to gather necessary information from a claimant's treating physician regarding the results of medical examinations.

An agency may not conduct or sponsor, and a person is not required to respond to a collection of information unless it displays a currently valid OMB control number. The Federal Register Notice with a 60-day comment period soliciting comments on this collection of information was published at 81 FR No. 221, on Wednesday, November 16, 2016, pages 80720 and 80721.

Affected Public: Individuals or Households.

Estimated Annual Burden: 15,500.

Estimated Average Burden Per Respondent: 15 minutes.

Frequency of Response: One time.

Estimated Number of Respondents: 62,000.

By direction of the Secretary.
Cynthia Harvey-Pryor,
Department Clearance Officer, Office of Privacy and Records Management, Department of Veterans Affairs.

[FR Doc. 2017-01744 Filed 1-25-17; 8:45 am]

BILLING CODE 8320-01-P